SURFACE TRANSPORTATION BOARD

[Docket No. FD 36068 (Sub-No. 2)]

The Indiana Rail Road Company—Temporary Trackage Rights Exemption—CSX Transportation, Inc.

On December 21, 2018, The Indiana Rail Road Company (INRD), a Class II rail carrier, filed a request under 49 CFR 1180.2(d)(8) for a one-year extension of the limited temporary overhead trackage rights previously granted in this sub-docket over a line of railroad of CSX Transportation, Inc. (CSXT), between its connection with CSXT at approximately CSXT milepost OZA 204.5 at Sullivan, Ind., and the connection with trackage serving the Oaktown Mine at approximately CSXT milepost OZA 219.05 at Oaktown, Ind., a distance of approximately 14.55 miles (the Line).

INRD was authorized to acquire these trackage rights over the Line by notice of exemption served and published in the Federal Register on December 22, 2017 (82 FR 60,788). The trackage rights permit INRD to handle loaded and empty unit coal trains between the Oaktown Mine and the Kentucky Utilities Generating Station in Harrodsburg, KY, in interline service with other carriers. The rights were scheduled to expire on December 31, 2018.¹

¹ Because of the partial shutdown of the Federal government from December 22, 2018, through January 25, 2019, INRD's extension request could not be addressed before the trackage rights were scheduled to expire.

Under 49 CFR 1180.2(d)(8), the parties may, prior to the expiration of the temporary trackage rights, file a request for a renewal of the temporary rights for an additional period of up to one year, including the reasons for the extension. INRD states that CSXT has agreed to extend the temporary trackage rights for an additional year. INRD states that the reason for the extension is that further short-term traffic movements to the Kentucky Utilities Generating Station appear probable and feasible.

INRD filed a draft copy of the amendment to the temporary trackage rights agreement with its request for the one-year extension, and states that it will submit a finalized version within 10 days of execution. INRD also acknowledges that any further extension of these rights, or a conversion of the rights from temporary to permanent, would require a separate notice of exemption filing pursuant to 49 CFR 1180.4(g).

In accordance with 49 CFR 1180.2(d)(8), INRD's temporary trackage rights over the Line will be extended for one year and will expire on December 31, 2019. The employee protective conditions imposed in the December 22, 2017 notice remain in effect. Notice of the one-year extension will be published in the Federal Register.

It is ordered:

1. INRD's temporary trackage rights over the Line are extended for one year and will expire on December 31, 2019.

2. Notice will be published in the Federal Register.

3. This decision is effective on its service date.

Decided: February 4, 2019.
By the Board, Allison C. Davis, Acting Director, Office of Proceedings.
Jeffrey Herzig,
Clearance Clerk.

[FR Doc. 2019-01594 Filed 2-7-19; 8:45 am]

BILLING CODE 4915-01-P